DEPARTMENT OF THE INTERIOR

Fish and Wildlife Service

[FWS-R2-ES-2014-N136; FRES480102200B0-XXX-FF02ENEH00]

Information Collection Request Sent to the Office of Management and Budget (OMB) for Approval; Survey of Rancher Opinions About Wildlife and Jaguar Habitat Management

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. We may not conduct or sponsor and a person is not required to respond to a collection of information unless it displays a currently valid OMB control number.

DATES: You must submit comments on or before August 1, 2014.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS 2042-PDM, 4401 North Fairfax Drive, Arlington, VA 22203 (mail), or hope_grey@fws.gov (email). Please include “1018-Jaguar Rancher” in the subject line of your comments.

FOR FURTHER INFORMATION CONTACT: To request additional information about this ICR, contact Hope Grey at hope_grey@fws.gov (email) or 703-358-2482 (telephone). You may review the ICR online at http://www.reginfo.gov. Follow the instructions to review Department of the Interior collections under review by OMB.

SUPPLEMENTARY INFORMATION:

Information Collection Request

OMB Control Number: 1018-XXXX. This is a new collection.

Title: Survey of Rancher Opinions about Wildlife and Jaguar Habitat Management.

Service Form Number: None.

Type of Request: Request for a new OMB control number.

Number of Respondents: 325.

Description of Respondents: Ranchers in southern Arizona and southwestern New Mexico.

Respondent's Obligation: Voluntary.

Frequency of Collection: One time.

Activity | Number of annual responses | Completion time per response | Total annual burden hours
Initial Contact | 325 | 2.5 minutes | 14
Reminders | 243 | 1 minute | 4
Complete Survey | 228 | 30 minutes | 114
Totals | 796 |  | 132

Estimated Annual Nonhour Burden Cost: None.

Abstract: We have contracted with the University of Arizona to conduct a survey of southern Arizona and southwestern New Mexico ranchers to determine their knowledge of and attitudes toward jaguar habitat, their level of knowledge regarding payments for ecosystem services, and their attitudes and interest toward a payment for ecosystem services intended to benefit jaguar habitat. This survey is necessary because there is currently no statistically significant information available about rancher attitudes toward jaguar habitat or their understanding of payments for ecosystem services.

The survey will improve rancher knowledge on these issues and will inform our evaluation of the practicality of a payment for ecosystem services for the benefit of jaguar habitat in southern Arizona and southwestern New Mexico. It will also aid in the implementation of jaguar habitat conservation efforts by increasing our knowledge of rancher attitudes toward jaguars and jaguar habitat management in southern Arizona and southwestern New Mexico.

Information collected in the survey will include data on knowledge of jaguar habitat attributes, opinions and attitudes about the designation of critical habitat in southern Arizona and southwestern New Mexico, knowledge of payment for ecosystem services programs generally, and opinions and attitudes about participation in payment for ecosystem services programs.

Comments Received and Our Responses

On December 17, 2013, we published in the Federal Register (78 FR 76315) a notice of our intent to request that OMB approve this information collection. In that notice, we solicited comments for 60 days, ending on February 18, 2014. We received three comments:

Comment: One commenter objected to the survey and stated that it is a waste of taxpayer dollars. The commenter did not address the information collection requirements, and we have not made any changes to the survey.

Comment: Two commenters requested inclusion of New Mexico ranchers in the survey sample.

Response: Ranchers located in southwestern New Mexico (Hidalgo County) will be included in the survey sample. The survey sample will include ranchers in Pima, Santa Cruz, and Cochise Counties in Arizona and Hidalgo County in New Mexico.

Request for Public Comments

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: June 26, 2014.
Tina A. Campbell,
Chief, Division of Policy and Directives Management, U.S. Fish and Wildlife Service.

[FR Doc. 2014-15482 Filed 7-1-14; 8:45 am]

BILLING CODE 4310-55-P